DEPARTMENT OF HOMELAND SECURITY

Coast Guard

33 CFR Part 167

[USCG-2003-16712]

Port Access Routes Study: In the Approaches to Narragansett Bay and Buzzards Bay, Cleveland Ledge to the Race, Narragansett Bay East Passage, and the Areas Offshore of Connecticut, Rhode Island, and Massachusetts

AGENCY: Coast Guard, DHS.

ACTION: Notice of study; request for comments.

SUMMARY: The Coast Guard is conducting a Port Access Route Study (PARS) to evaluate the continued applicability of, and the need for modifications to, current vessel routing measures in the approaches to Narragansett Bay and Buzzards Bay, Cleveland Ledge to the Race, Narragansett Bay East Passage, and the areas offshore of Connecticut, Rhode Island, and Massachusetts. The goal of the study is to help reduce the risk of marine casualties and increase the efficiency of vessel traffic management in the study area. The recommendations of the study may lead to future rulemaking action or appropriate international agreements.

DATES: Comments and related material must reach the Docket Management Facility on or before February 23, 2004.

ADDRESSES: You may submit comments identified by Coast Guard docket number USCG-2003-16712 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: (202) 493-2251.

(4) Delivery: Room PL-401 on the Plaza level of the Nassif Building, 400 Seventh Street SW., Washington, DC, between 9 a.m. and 5 p.m., Monday through Friday, except Federal holidays. The telephone number is (202) 366-9329.

(5) Federal eRulemaking Portal: http://www.regulations.gov.

FOR FURTHER INFORMATION CONTACT: If you have questions on this notice of study, call John Mauro, Project Officer, First Coast Guard District, telephone (617) 223-8355, email jmauro@d1.uscg.mil; or George Detweiler, Office of Vessel Traffic Management, Coast Guard, telephone (202) 267-0574, e-mail Gdetweiler@comdt.uscg.mil. If you have questions on viewing or submitting material to the docket, call Andrea M. Jenkins, Program Manager, Docket Operations, telephone (202) 366-0271.

SUPPLEMENTARY INFORMATION:

Public Participation and Request for Comments

We encourage you to participate in this study by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice of study (USCG-2003-16712), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Definitions

The following definitions are from the International Maritime Organization's (IMO's) “Ships” Routeing Guide” (except those marked by an asterisk) and should help you review this notice:

Area to be avoided or ATBA means a routing measure comprising an area within defined limits in which either navigation is particularly hazardous or it is exceptionally important to avoid casualties and which should be avoided by all vessels or certain classes of vessels.

Deep-water route means a route within defined limits, which has been accurately surveyed for clearance of sea bottom and submerged obstacles as indicated on nautical charts.

Inshore traffic zone means a routing measure comprising a designated area between the landward boundary of a traffic separation scheme and the adjacent coast, to be used in accordance with the provisions of Rule 10(d), as amended, of the International Regulations for Preventing Collisions at Sea, 1972 (COLREGS).

Precautionary area means a routing measure comprising an area within defined limits where vessels must navigate with particular caution and within which the direction of traffic flow may be recommended.

Recommended route means a route of undefined width, for the convenience of vessels in transit, which is often marked by centerline buoys.

Recommended track means a route which has been specifically examined to ensure so far as possible that it is free of dangers and along which vessels are advised to navigate.

Regulated Navigation Area or RNA* means a water area within a defined boundary for which regulations for vessels navigating within the area have been established under 33 CFR part 165.

Roundabout means a routing measure comprising a separation point or circular separation zone and a circular traffic lane within defined limits. Traffic within the roundabout is separated by moving in a counterclockwise direction around the separation point or zone.

Separation zone or separation line means a zone or line separating the traffic lanes in which vessels are proceeding in opposite or nearly opposite directions; or separating a traffic lane from the adjacent sea area; or separating traffic lanes designated for particular classes of vessels proceeding in the same direction.

Traffic lane means an area within defined limits in which one-way traffic is established. Natural obstacles, including those forming separation zones, may constitute a boundary.

Traffic Separation Scheme or TSS means a routing measure aimed at the separation of opposing streams of traffic by appropriate means and by the establishment of traffic lanes.

Two-way route means a route within defined limits inside which two-way traffic is established, aimed at providing safe passage of vessels through waters where navigation is difficult or dangerous.

Vessel routing system means any system of one or more routes or routing measures aimed at reducing the risk of casualties; it includes traffic separation schemes, two-way routes, recommended tracks, areas to be avoided, inshore traffic zones, roundabouts, precautionary areas, and deep-water routes.

Background and Purpose

Why are port access route studies required? Under the Ports and Waterways Safety Act (PWSA)(33 U.S.C. 1223(c)), the Commandant of the Coast Guard may designate necessary fairways and traffic separation schemes (TSSs) to provide safe access routes for vessels proceeding to and from U.S. ports. The designation of fairways and TSSs recognizes the paramount right of navigation over all other uses in the designated areas.

The PWSA requires the Coast Guard to conduct a study of port access routes before establishing or adjusting fairways or TSSs. Through the study process, we must coordinate with Federal, State, and foreign state agencies (as appropriate) and consider the views of maritime community representatives, environmental groups, and other interested stakeholders. A primary purpose of this coordination is to reconcile, to the extent practicable, the need for safe access routes with other reasonable uses of the waterway.

Were there previous port access route studies? The Approaches to Narragansett Bay, RI, and Buzzards Bay, MA, were last studied in 1979, and the final results were published in the Federal Register on January 7, 1982 (47 FR 879). The study concluded that two minor modifications to the existing TSS in the Approaches to Narragansett Bay, RI, and Buzzards Bay, MA, were needed. Both minor modifications were made and are in effect.

Why is a new port access route study necessary? Vessel size, traffic density, and channel depths and widths have changed since the 1979 study. Major changes on channel depth, channel width, and navigational aid alignment are currently underway in the Providence River and the port of Providence, RI. The report by the U.S. Army Corps of Engineers entitled “Waterborne Commerce of the United States” states that, from 1997 to 2001, the number of annual trips through the Cape Cod Canal decreased by 38 percent from 1,635 to 1,007; the number of trips to and from the Port of Providence, RI, decreased by 36 percent from 1,449 to 930; the number of trips to and from the Port of Fall River, MA, decreased by 18 percent from 380 to 313, and the number of trips to and from the Port of New Bedford/Fairhaven, MA, decreased by 16 percent from 2,665 to 2,242. Since 1944, a Corps of Engineers navigation project for the Cape Cod Canal has maintained a depth of 32 feet in the Cape Cod Canal. Maintenance dredging is currently underway in the Providence River, where shoaling has reduced the depths in the channel by as much as 10 to 12 feet in places. Dredging the navigation channel to a depth of 40 feet and a width of 600 feet will restore the channel to its full, congressionally authorized, project dimensions. Once the dredging is complete, vessel traffic to and from the Port of Providence and through the Cape Cod Canal should increase significantly.

What are the timeline, study area, and process of this PARS? The First Coast Guard District will conduct this PARS. The study will begin immediately and should take 6 to 12 months to complete.

The study area will encompass the approaches to Narragansett and Buzzards Bays, Cleveland Ledge to the Race, Narragansett Bay East Passage, and the areas offshore of Connecticut, Rhode Island, and Massachusetts that are used by commercial and public vessels transiting to and from Long Island Sound and the Cape Cod Canal.

As part of this study, we will consider previous studies, analyses of vessel traffic density, and agency and stakeholder experience in vessel traffic management, navigation, ship handling, and affects of weather. We encourage you to participate in the study process by submitting comments in response to this notice.

We will publish the results of the PARS in the Federal Register. It is possible that the study may validate existing vessel routing measures and conclude that no changes are necessary. It is also possible that the study may recommend one or more changes to enhance navigational safety and the efficiency of vessel traffic management. The recommendations may lead to future rulemakings or appropriate international agreements.

Possible Scope of the Recommendations

We are attempting to determine the scope of any safety problems associated with vessel transits in the study area. We expect that information gathered during the study will identify any problems and appropriate solutions. The study may recommend that we—

1. Maintain the current vessel routing measures;

2. Establish a deep-water route;

3. Modify the existing TSS in the Approaches to Narragansett Bay and Buzzards Bay;

4. Designate a recommended route encompassing the routes typically used by merchant and naval vessels transiting the study area;

5. Create one or more additional precautionary areas;

6. Create one or more inshore traffic zones near either or both approaches;

7. Establish an area to be avoided (ATBA) in shallow areas where the risk of grounding is present;

8. Establish, disestablish, or modify anchorage grounds; and

9. Establish a Regulated Navigation Area (RNA) with specific vessel operating requirements to ensure safe navigation near shallow water.

Questions

To help us conduct the port access route study, we request comments on the following questions, although comments on other issues addressed in this document are also welcome. In responding to a question, please explain your reasons for each answer and follow the instructions under “Public Participation and Request for Comments” above.

1. What navigational hazards do vessels operating in the study area face? Please describe.

2. Are there strains on the current vessel routing system, such as increasing traffic density? If so, please describe.

3. Are modifications to existing vessel routing measures needed to address hazards and strains and to improve traffic management efficiency in the study area? If so, please describe.

4. What costs and benefits are associated with the potential study recommendations listed above? What measures do you think are most cost-effective?

5. What impacts, both positive and negative, would changes to existing routing measures or new routing measures have on the study area?

Dated: December 16, 2003.
Joseph J. Angelo,
Director of Standards, Marine Safety, Security & Environmental Protection.

[FR Doc. 03-31623 Filed 12-22-03; 8:45 am]

BILLING CODE 4910-15-P